DEPARTMENT OF ENERGY

Federal Energy Regulatory Commission

[Docket No. CP02-15-000]

Kern Gas Transmission Company; Notice of Application

November 6, 2001.

Take notice that on October 26, 2001, Kern River Gas Transmission Company (Kern River), 295 Chipeta Way, Salt Lake City, Utah 84158, filed in Docket No. CP02-15-000, an application, pursuant to section 7(c) of the Natural Gas Act (NGA) for authorization to construct and operate the new Kramer Junction Delivery Point, located in San Bernardino County, California, all as more fully set forth in the application which is on file with the Commission and open to public inspection. This filing may be viewed on the web at http://www.ferc.gov using the “RIMS” link, select “Docket # “ from the RIMS menu and follow the instructions (call (202) 208-2222 for assistance).

Kern River proposes to construct and operate the new Kramer Junction Delivery Point in San Bernardino County, California, consisting of a 20-inch tap on the 42-inch mainline portion of the Common Facilities, jointly owned by Kern River and Mojave Pipeline Company and a meter station in 200 by 250-foot fenced station yard. Kern River indicates that the metering facilities will include 3 10-inch turbine meters, a 12-inch flow control valve, and appurtenances. Kern River states that the proposed delivery point has a maximum design delivery capacity of approximately 500 Mmcf/d at 650 psig from the Common Facilities mainline into the new Adelanto Lateral, planned by Southern California Gas Company (SoCalGas).

Kern River avers that the proposed Kramer Junction Delivery Point will establish an alternative to Kern River's existing Wheeler Ridge Delivery Point into the SoCalGas system, where take-away capacity currently is constrained. Kern River asserts that its shippers (both existing and prospective expansion shippers) have already contracted for approximately 328 Mmcf/d of firm delivery capacity to the proposed Kramer Junction Delivery Point.

Kern River estimates the cost of the proposed delivery point facilities at $2,115,211. Kern River indicates that, pursuant to a Facilities Agreement, SoCalGas will reimburse Kern River for all of the actual costs of the proposed facilities, plus associated income taxes by making a lump sum payment upon completion of construction.

Any questions regarding this application should be directed to Gary Kotter, Manager, Kern River Gas Transmission Company, P.O. Box 58900, Salt Lake City, Utah 84158, at (801) 584-7117.

There are two ways to become involved in the Commission's review of this project. First, any person wishing to obtain legal status by becoming a party to the proceedings for this project should, on or before November 16, 2001, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the Internet in lieu of paper. See, 18 CFR 385.2001(a)(1)(iii) and the instructions on the Commission's web site under the “e-Filing” link.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 01-28281 Filed 11-9-01; 8:45 am]

BILLING CODE 6717-01-P